DEPARTMENT OF DEFENSE

Department of the Navy

[Docket ID USN-2023-HQ-0003]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by May 22, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION: Title; Associated Form; and OMB Number: Military Housing Virtual Assistance; OMB Control Number 0703-0066.

Type of Request: Revision.

HOMES.mil Listings

Number of Respondents: 10,491.

Responses per Respondent: 5.

Annual Responses: 52,455.

Average Burden per Response: 20 minutes.

Annual Burden Hours: 17,485.

Housing Early Assistance Tool (HEAT)

Number of Respondents: 1,938.

Responses per Respondent: 1.

Annual Responses: 1,938.

Average Burden per Response: 10 minutes.

Annual Burden Hours: 323.

Total

Number of Respondents: 12,429.

Annual Responses: 54,393.

Annual Burden Hours: 17,808.

Needs and Uses: Title 10 U.S.C. 1056 requires the provision of relocation assistance to military members and their families. Requirements include provision of information on housing costs/availability and home finding services. The Enterprise Military Housing System (eMH) includes a public website (HOMES.mil) which collects information needed to facilitate military personnel searching for suitable community rental housing within close proximity to military installations. Property owners may use the HOMES.mil web application to list properties available for lease by service members and their families. They also have the option to call installation military housing offices and provide the information required to create a listing over the phone. Additionally, service members and their dependents may use the HOMES.mil Housing Early Assistance Tool (HEAT) to request information and housing services from the installation military housing office.

Affected Public: Business or other for-profit; individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: April 18, 2023.
Aaron T. Siegel,
Alternate OSD Federal Register Liaison Officer, Department of Defense.

[FR Doc. 2023-08511 Filed 4-20-23; 8:45 am]

BILLING CODE 5001-06-P